DEPARTMENT OF THE INTERIOR

Fish and Wildlife Service

[FWS-R8-ES-2024-N043; FXES11130800000-245-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before October 7, 2024.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Tiffany Heitz, Regional Recovery Permit Coordinator, U.S. Fish and Wildlife Service, 2800 Cottage Way, Room W-2606, Sacramento, CA 95825.

FOR FURTHER INFORMATION CONTACT: Tiffany Heitz, via phone at 916-414-6489, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the permit requests in table 1 are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Table 1—Permit Applications Received
Application No. | Applicant, city, state | Species | Location | Take activity | Permit action
PER10171021 | Miguel Moutsos, Oceanside, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | New.
091857 | Denise Duffy & Associates, Monterey, California | • California tiger salamander (Ambystoma californiense) Santa Barbara County and Sonoma County distinct population segments • Foothill yellow-legged frog (Rana boylii), South Sierra and South Coast distinct population segments | CA | Survey, capture, handle, swab, and release | Renew and amend.
PER0121458 | Donald W. Hardeman Jr., Cedar Hill, Texas | • California tiger salamander (Ambystoma californiense) Santa Barbara County and Sonoma County distinct population segments • Foothill yellow-legged frog (Rana boylii), South Sierra and South Coast distinct population segments • Morro Bay kangaroo rat (Dipodomys heermanni morroensis) • Fresno kangaroo rat (Dipodomys nitratoides exilis) • Tipton kangaroo rat (Dipodomys nitratoides nitratoides) • Giant kangaroo rat (Dipodomys ingens) | CA | Survey, capture, handle, swab, and release | Amend.
815537 | Karen Swaim, Livermore, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense) Santa Barbara County and Sonoma County distinct population segments • San Francisco garter snake (Thamnophis sirtalis tetrataenia) | CA | Survey, capture, handle, collect adult vouchers, mark, swab, release, and insert PIT (passive integrated transponder) tag | Renew.
179036 | Cullen Wilkerson, Richmond, California | • Foothill yellow-legged frog (Rana boylii), South Sierra and South Coast distinct population segments | CA | Survey, capture, handle, swab, and release | Amend.
PER9781002 | Cynthia Martinson, Paso Robles, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | New.
802450 | Arthur Davenport, Barstow, California | • San Bernardino Merriam's kangaroo rat (Dipodomys merriami parvus) • Pacific pocket mouse (Perognathus longimembris pacificus) | CA, NV | Survey, capture, handle, and release | Renew.
PER9605389 | Rylie Towne, Stockton, California | • California tiger salamander (Ambystoma californiense) Santa Barbara County and Sonoma County distinct population segments | CA | Survey, capture, handle, swab, and release | New.
142436 | Eric Renfro, Torrence, California | • Delhi Sands flower-loving fly (Rhaphiomidas terminatus abdominalis) | CA | Pursue | Renew.
13636B | Michaela Craighead, Grover Beach, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
PER9814465 | Kelly Otto, Oceanside, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | New.
35000A | University of California, Davis, Davis, California | • Giant kangaroo rat (Dipodomys ingens) • Salt marsh harvest mouse (Reithrodontomys raviventris) | CA | Handle, mark, take hair samples, swab, release, and collect and store biological samples from carcasses | Renew.
PER9973823 | Adam Malisch, Mariposa, California | • Conservancy fairy shrimp (Branchinecta conservatio) • Longhorn fairy shrimp (Branchinecta longiantenna) • Vernal pool tadpole shrimp (Lepidurus packardi) | CA | Survey, capture, handle, release, collect adult vouchers, and collect branchiopod resting eggs | New.
98470C | Michael Burleson, Citrus Heights, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | Renew.
PER0040489 | Tara Johnson-Kelly, Salinas, California | • Foothill yellow-legged frog (Rana boylii), South Coast distinct population segment | CA | Survey, capture, handle, swab, and release | Amend.
66228D | Andrew Ford, Vallejo, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense) Santa Barbara County and Sonoma County distinct population segments | CA | Survey, capture, handle, swab, release, and collect adult vouchers | Renew and amend.
PER0010680 | David Moskovitz, Diamond Bar, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, collect adult vouchers, and collect resting eggs | Renew.
41346D | Stan C. Glowacki, Redondo Beach, California | • Tidewater goby (Eucyclogobius newberryi) | CA | Survey, capture, handle, photograph, release, and collect voucher specimens | Renew and amend.
745541 | SJM Biological Consultants Inc., Flagstaff, Arizona | • San Bernardino Merriam's kangaroo rat (Dipodomys merriami parvus) • Amargosa vole (Microtus californicus scirpensis) • Pacific pocket mouse (Perognathus longimembris pacificus) • Yuma Ridgway's rail (Rallus obsoletus yumanensis) | CA | Survey, capture, handle, and release | Renew.
PER0008920 | Megan R. Bishop, Richmond, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense) Santa Barbara County and Sonoma County distinct population segments | CA | Survey, capture, handle, release, collect adult vouchers, and collect resting eggs | Renew.
PER0012897 | Julie Thomas, Morro Bay, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect resting eggs | Renew.
75112 | Gregory Chatman, Ashton, Idaho | • Quino checkerspot butterfly (Euphydryas editha quino) | CA | Pursue | Renew.
PER11171364 | Caroline Hamilton, Placerville, California | • Foothill yellow-legged frog (Rana boylii), South Sierra and South Coast distinct population segments | CA | Survey, capture, handle, swab, release, and insert PIT (passive integrated transponder) tag | New.
PER10983254 | Daniel J. Smith, Kingman, Arizona | • San Bernardino Merriam's kangaroo rat (Dipodomys merriami parvus) | CA | Survey, capture, handle, and release adults and juveniles of both sexes | New.
101154 | Douglas Rischbieter, Arnold, California | • Tidewater goby (Eucyclogobius newberryi) | CA | Survey, capture, handle, photograph, release, and collect voucher specimens | Renew.
PER0003722 | James Hickman, San Bernardino, California | • Quino checkerspot butterfly (Euphydryas editha quino) • San Bernardino Merriam's kangaroo rat (Dipodomys merriami parvus) | CA | Pursue, survey, capture, handle, and release | Renew.
217119 | Carie Wingert, Clovis, California | • Tipton kangaroo rat (Dipodomys nitratoides nitratoides) • Giant kangaroo rat (Dipodomys ingens) | CA | Survey, capture, handle, and release | Renew.
020548 | U.S. Geological Survey, WERC, San Francisco Bay Estuary F.S., Vallejo, California | • Salt marsh harvest mouse (Reithrodontomys raviventris) • California Ridgway's rail (Rallus obsoletus obsoletus) • Yuma Ridgway's rail (Rallus obsoletus yumanensis) | CA | Survey, capture, handle, release, mark, take fur samples, salvage eggs, and salvage carcasses | Renew.
PER0003167 | Elyssa K. Robertson, Imperial Beach, California | • Quino checkerspot butterfly (Euphydryas editha quino) | CA | Pursue | Renew.
PER0002933 | Jordan Zylstra, San Jacinto, California | • Quino checkerspot butterfly (Euphydryas editha quino) | CA | Pursue | Renew.
108683 | Austin Pearson, Coarsegold, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
20280D | Stephanie A. Cashin, Anaheim, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | Renew.
200340 | Andrew Hatch, South Lake Tahoe, California | • Foothill yellow-legged frog (Rana boylii), South Sierra and South Coast distinct population segments | CA | Survey, capture, handle, swab, and release | Amend.
032713 | California Department of Transportation, Fresno, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense) Santa Barbara County and Sonoma County distinct population segments • Tipton kangaroo rat (Dipodomys nitratoides nitratoides) • Giant kangaroo rat (Dipodomys ingens) | CA | Survey, capture, handle, release, collect adult vouchers, and collect resting eggs | Renew.
118641 | Jodi McGraw, Watsonville, California | • Mount Hermon June beetle (Polyphylla barbata) • Zayante band-winged grasshopper (Trimerotropis infantilis) | CA | Survey, capture, handle, release, and monitor | Renew.
PER003214 | Monica Alfaro, San Diego, California | • Quino checkerspot butterfly (Euphydryas editha quino) • Southwestern willow flycatcher (Empidonax traillii extimus) | CA | Pursue, survey | Renew.
PER11783251 | Matthew Metheny, Arcata, California | • Tidewater goby (Eucyclogobius newberryi) | CA | Survey, capture, handle, photograph, release, and collect voucher specimens | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials, will be made available for public disclosure in their entirety.

Next Steps

If we decide to issue permits to any of the applicants listed in this notice, we will publish a notice in the Federal Register.

Authority

We publish this notice under section 10(c) of the Endangered Species Act of 1973, as amended (16 U.S.C. 1531 et seq.).

Angela Picco,
Regional Threatened and Endangered Species Lead, Ecological Services, Pacific Southwest Region, Sacramento, California.

[FR Doc. 2024-20076 Filed 9-5-24; 8:45 am]

BILLING CODE 4333-15-P